FEDERAL COMMUNICATIONS COMMISSION

47 CFR Part 73

[DA 23-165; MB Docket No. 22-398; RM-11935; FR ID 129866]

Radio Broadcasting Services; Ralston, Wyoming

AGENCY: Federal Communications Commission.

ACTION: Final rule.

SUMMARY: This document amends the FM Table of Allotments, of the Commission's rules, by adding Channel 233C at Ralston, Wyoming. Channel 233C would provide a first local service at Ralston, Wyoming. A staff engineering analysis indicates that Channel 233C can be allotted to Ralston, Wyoming, consistent with the minimum distance separation requirements of the Commission's rules, with a site restriction of 32.1 km (19.9 miles) southwest of the community. The reference coordinates are 44-29-42 NL and 109-09-12 WL.

DATES: Effective April 17, 2023.

FOR FURTHER INFORMATION CONTACT: Rolanda F. Smith, Media Bureau, (202) 418-2700.

SUPPLEMENTARY INFORMATION: This is a synopsis of the Federal Communications Commission's (Commission) Report and Order, adopted March 1, 2023 and released March 1, 2023. The full text of this Commission decision is available online at https://apps.fcc.gov/ecfs/. This document does not contain information collection requirements subject to the Paperwork Reduction Act of 1995, Public Law 104-13. The Commission will send a copy of this Report and Order in a report to be sent to Congress and the Government Accountability Office pursuant to the Congressional Review Act, see U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend the table 1, under Wyoming, by adding in alphabetical order an entry for “Ralston” to read as follows:

§ 73.202 Table of Allotments.

* * * * *

(b) Table of FM Allotments.

Table 1 to Paragraph (b)
U.S. states | Channel No.
Wyoming
* * * * *
Ralston | 233C
* * * * *

* * * * *

[FR Doc. 2023-04630 Filed 3-7-23; 8:45 am]

BILLING CODE 6712-01-P